DEPARTMENT OF HEALTH AND HUMAN SERVICES

Request for Applications for the Mentoring Partnership Program—Protégé

AGENCY: Office on Women's Health, Office of Public Health and Science, Office of the Secretary, HHS.

Announcement Type: Cooperative Agreement—FY 2006 Initial announcement.

Funding Opportunity Number: Not applicable.

CFDA Number: 93.294.

DATES: To receive consideration, applications must be received by the Office of Grants Management, Office of Public Health and Science (OPHS), Department of Health and Human Services (DHHS), no later than June 22, 2006.

Pre-site visits (if needed): August 21-25, 2006. If the pre-site visits will determine funding they will need to be prior to July 15 (due date of funding memos to Office of Grants Management).

Award date: September 1, 2006.

SUMMARY: The Office on Women's Health (OWH) within the Department of Health and Human Services (DHHS) is the government's champion and focal point for women's health issues, and works to redress inequities in research, health care services, and education that have historically placed the health of women at risk. The OWH coordinates women's health efforts within DHHS to eliminate disparities in health status and supports culturally sensitive educational programs that encourage women to take personal responsibility for their own health and wellness. To that end, OWH has established public/private partnerships to address critical women's health issues nationwide, namely mentoring partnerships (protégé and mentor) meant to strengthen the capacity of non-profit organizations that provide HIV/AIDS prevention services to women at risk and/or living with HIV/AIDS. Women of color represent over 80 percent of the reported AIDS cases. Younger women are increasingly at higher risk for HIV/AIDS. Thus, the Mentoring Partnership Program—Protégé intends to demonstrate how small, non-profit, community-based, faith-based, and women's service organizations will be strengthened, programs/service effectiveness increased, and gender-focused and culturally competent practices instituted so that efforts to reach women most at risk and/or living with HIV/AIDS are increased. The non-profit community-based, faith-based, and women's service organizations receive training to increase their competencies in operating a sound organization. Moreover, mentors prepare protégés to compete for additional public and private funding. During the funding period, protégé organizations will demonstrate a gain in knowledge and skills by reaching more women with HIV/AIDS prevention education and support services. In order to improve HIV/AIDS program services to women, protégé grantees are also required to receive additional training by attending two HIV/AIDS prevention conferences (regional and national) and establish collaborative partnerships with the local health and social service departments for referral resources in areas such as primary health care, housing, education, job and/or trade training, to name a few.

I. Funding Opportunity Description

Authority: This program is authorized by 42 U.S.C. 300u-2(a).

The purpose of the Mentoring Partnership Program—Protégé is to strengthen the organizational infrastructure and program services of small non-profit organizations so they may deliver improved HIV/AIDS prevention and support services to women most at risk for acquiring HIV/AIDS and women with positive HIV serostatus. With a sound infrastructure and culturally competent, gender-focused program services, women will increase their HIV prevention knowledge and reduce the risk of contracting HIV. The goals of the program are:

—For protégé or non-profit community-based, faith-based, and women's service organizations to be paired with certified small businesses or mentors (with expertise in women's health, particularly women-specific HIV/AIDS prevention services) and organizational development to design tailor-made capacity building training for: (1) Organization infrastructure: (a) fiscal management; (b) human resources; (c) governance; (d) data management; and (e) technology development; and (2) program infrastructure: (a) gender-focused programmatic development; (b) implementation; (c) reporting; (d) monitoring; and (e) evaluation; and simultaneously.

—For protégé and mentor organizations to develop a mentoring partnership approach offering protégé the opportunity to receive training and gain skills to adapt evidence-based HIV/AIDS prevention education curricula to improve program services to women disproportionately impacted by HIV/AIDS.

The objectives of the OWH Mentoring Partnership Program—Protégé are:

—For protégé or non-profit community-based, faith-based, and women's service organizations to gain skills and be prepared to compete for Federal and private funding before the program period ends; and

—For protégé or non-profit community-based, faith-based, and women's service organizations to increase the number of women at risk for or living with HIV/AIDS served with culturally competent, gender-focused, evidence-based program services.

In order to achieve the objectives of the program, the protégé grantee shall:

(1) By October 16, 2006, OWH will pair each protégé with a mentor organization (mentoring partnerships will be established between a mentor and a maximum of two (2) protégé organizations). OWH Project Officer will provide protégé (and mentor) organization with contact information. Protégé and mentor must make contact by telephone and e-mail:

a. For introductions.

b. Share background of agencies.

c. Protégé to receive and complete initial assessment of capacity building needs from mentor.

(2) OWH Orientation Meeting.

a. The primary staff of the protégé organization will attend the mandatory OWH orientation meeting (held within the first 8 weeks of the program period). Funded organizations must bring a copy of their cooperative agreement, proposal, and planning calendar for the 12-month funding period (will schedule on-site visits and teleconferences between protégé and mentor; schedule Project Officer site evaluation visit; Project Officer monitoring teleconferences, etc.).

b. The protégé and mentor organizations will give brief presentations on their funded programs. The mentoring partnership must meet with each other, determine a biweekly teleconference schedule and email correspondence schedule, discuss protégé needs, review protégé initial assessment on organizational and program/service capacity building needs, and further prioritize capacity needs.

c. Each mentoring partnership must meet with the Project Officer, discuss areas and activities for capacity building assistance required, specify how the program will be evaluated, discuss a Plan of Action, and receive Project Office approval to proceed. Approval to proceed is based on prioritizing capacity building needs as follows:

—For organization Infrastructure, a maximum of two of the following areas may be selected: (1) Fiscal management; (2) human resources; (3) governance; (4) data management; or (5) technology development.

—For Program Infrastructure, a maximum of two of the following areas may be selected: (1) Gender-focused programmatic development; (2) implementation; (3) reporting; (4) monitoring; or (5) evaluation.

—For protégés with 5 or less years of service, Project Officer may decrease the number of capacity building areas based on current organizational capacity.

d. Project Officer will distribute list of national HIV/AIDS conferences approved for protégés to attend.

(3) The mentor will request program/service tracking assessment tools used by the protégés local health departments with grantees of similar programs. The assessment tools must cover demographic and service information. Using these assessment(s), the mentor is to adapt these forms so they may be used by their protégés to track and report women served in protégé's adapted HIV/AIDS prevention program (must include gender-focused components).

(4) A Memorandum of Agreement (MOA) will be developed and signed by the protégé and mentor. The MOA must contain the following:

—Detailed description of mentoring partnership approach to be used with each protégé organization with considerations for style of leadership, vision, learning approaches, philosophy, and other significant attributes and factors expressed by the protégé; description must demonstrate a genuinely supportive mentoring approach with protégé organizations that facilitates the transfer and exchange of new information and skills-building training such that they may be applied within the program period;

—Protégé on-site visit schedules to be conducted by mentor (details of date, time, place, area and activities for capacity building, mentor training staff, protégé staff to attend);

—Bi-weekly teleconference schedule between protégé and mentor (details of date, time, place, areas and activities for capacity building, mentor training staff, protégé staff to be on the calls);

—Schedule for e-mail correspondence between protégé and mentor;

—Dates for mentors to review and give feedback on protégé's progress reports (initial, mid-year, and final) to OWH;

—Statement of agreement for both mentoring partners regarding the gender-focused approaches to be used and intended outcomes, e.g., between mentoring partners; protégé agency clients and staff; Board of Director; Advisory Board; volunteers; etc., and,

—Detailed description of evaluation method to be used by both the mentor and protégé.

(5) The protégé will receive four (4) on-site capacity building sessions with the mentor. Each on-site visit will occur for 3 days per protégé organization at 8 hours each day. Each on-site visit should occur on a quarterly basis. However, the last on-site visit is not to be scheduled during the last month of the funding year. Based on the mentoring partnership, the protégé may receive capacity building assistance through mentor tutorial activities including, but not limited to the following:

a. Core Capacity Building Areas: Organization Infrastructure

Subset Areas

—Fiscal management (e.g., accounting and bookkeeping systems; Federal and State tax laws and regulations; systems operations; developing policies and procedures; equipment, computers, software; source of funding tracking systems).

—Human resources (e.g., personnel hiring policies and procedures; position descriptions; benefit packages).

—Organizational governance (e.g., board development; strategic plan; board membership recruitment, selection, retention; board roles and responsibilities).

—Data management (e.g., assessments, reporting requirements; designing and display; quantitative and qualitative data).

—Technology development (e.g., software).

b. Core Capacity Building Area: Program Infrastructure

Subset Areas

—Gender-focused, culturally competent, evidence-based programmatic development.

—Implementation.

—Reporting.

—Monitoring.

—Evaluation.

c. Protégé will complete assessments to help mentor gauge knowledge and skills gained in selected capacity building activity since previous assessments;

d. Protégé will take mentor on a tour of local service area(s) to see (when possible, meet members of) the women to be reached in the adopted HIV/AIDS prevention education program;

e. Protégé will be taught by mentor how to customize program/service materials (i.e., procedural guides, training handbooks, train-the-trainer guide, etc.);

f. Protégé and mentor will select samples of evidence-based HIV/AIDS (culturally competent, gender-focused, age- and linguistically-appropriate) prevention education curricula and teach protégé how they may be adapted for use with women at high risk for or living with HIV/AIDS.

g. Protégé will be receiving training from mentor in skills building sessions to learn how to build the capacity in areas selected in 7a and 7b while simultaneously adapting HIV prevention education program, then offering new HIV prevention program reaching women at risk and/or living with HIV/AIDS.

h. Protégé will be tutored by mentor on new software (graphic design, fiscal, data collection/management, etc.); and,

i. Protégé, with mentor's guidance, will convene meetings with community stakeholders to develop and/or strengthen community collaborative partnerships.

j. Protégé will be taught by mentor how to develop a comprehensive work plan and time line for the entire funding year.

(6) The protégé will receive the following from the mentor: (a) Program/service tracking assessment tools used by the protégé's local health department; (b) training on how to adapt these assessment tools to reflect gender-focused components for reporting and evaluation of their OWH-funded programs (assessment tools must contain demographic and service information); (c) sample evaluation assessment tools and training on how to use and adapt them for purposes of self-evaluating competencies and skills gained in each capacity building area (and will be reported in mentor's mid-year and final progress reports to OWH); (d) Skills Building Assessment after mentor conducts on-site visits, and capacity building sessions via teleconference and e-mail; (e) assignments from mentor relative to protégé's selected capacity building areas; and (f) Mentor Customer Service Assessment to be completed by protégé after each on-site visit with mentor AND capacity building sessions convened via teleconference and e-mail with mentor.

(7) In order to gain additional training, the protégé shall travel to and attend:

a. One national HIV/AIDS conference that includes women-specific HIV/AIDS issues; and

b. one regional HIV/AIDS conference that includes women-specific HIV/AIDS issues.

c. Project Officer approval must be given before registering for regional HIV/AIDS conferences.

d. Protégé must attend both national and regional HIV/AIDS conference before July 1, 2007.

(8) Protégé will develop indicators to determine success of meeting program outcomes, including but not limited to:

a. List goals, dates to be achieved, and status.

b. List process objectives for each program activity, dates to be achieved, and status.

c. List outcome objectives (e.g., number of women reached in piloting adapted HIV/AIDS prevention training, etc.) for:

—mentoring partnership capacity building sessions (on-site visits, teleconferences, e-mail)

—training attended by protégé (e.g., based on evidence-based, gender-specific HIV/AIDS curricula, etc.)

(9) Protégé will work with OWH's independent evaluator to assess the measure of success for the OWH Mentoring Partnership Program. The independent evaluator will convene teleconference meetings, administer OMB assessments, and conduct one on-site visit.

(10) OWH Project Officer will:

a. Convene a maximum of three project monitoring teleconferences with protégé (both individually and with other funded protégés) to receive program updates and address any inadequacies; and

b. conduct one site evaluation visit at the protégé's operating site.

II. Award Information

Under this announcement the OWH anticipates making four cooperative agreement awards. Approximately $200,000 is available to make four awards of up to $50,000 each. It is expected that the award will cover costs for the 12-month period from September 1, 2006 through August 31, 2007. Funding estimates may change. Please read Section II. Award Information and Section IV. Application and Submission Information for specific information on OWH's involvement with the grantee.

III. Eligibility Information

1. Eligible Applicants

Eligible entities may include: non-profit community-based organizations, faith-based organizations, national organizations, colleges and universities, clinics and hospitals, research institutions, State and local government agencies, tribal government agencies and tribal/urban Indian organizations.

2. Cost Sharing or Matching

Cost sharing and matching funds is not a requirement of this grant.

IV. Application and Submission Information

1. Address To Request Application Package

Application kits may be requested by calling (240) 453-8822 or writing to: Office of Grants Management, Office of Public Health and Science, DHHS, 1101 Wootten Parkway, Suite 550, Rockville, MD 20852. Applicants may fax a written request to the OPHS Office of Grants Management to obtain a hard copy of the application kit at (240) 453-8823.

By mail, address to “Request Application Package.” Application kits may be requested from, and submitted to the Office of Grants Management, OPHS, DHHS, 1101 Wootten Parkway, Suite 550, Rockville, MD 20852, (240) 453-8822. Application kits are also available online at http://www.Grants.gov Web site portal. Applicants may fax a written request to the OPHS Office of Grants Management to obtain a hard copy of the application kit at (240) 453-8823.

2. Content and Format of Application and Submission

At a minimum, each application for a cooperative agreement funded under this OWH announcement must:

a. Describe the organization's current capacity and record of success (minimum 3 years) to provide HIV/AIDS prevention education and support to women at high risk for or living with HIV/AIDS.

b. Provide an assessment of women at high risk for or living with HIV/AIDS relative to their prevention needs and service gaps in the local geographic area covering the applicant's county and State (must cite all data using credible sources only).

c. Describe the HIV/AIDS prevention needs of women at high risk for or living with HIV/AIDS and service gaps the applicant proposes to address with capacity building assistance (must cite all data using credible sources only).

d. State goals and objectives for strengthening (objectives must be quantifiable citing the number of new women at high risk for or living with HIV/AIDS to be served by the end of the program period):

—The organizational infrastructure of the applicant.

—The HIV/AIDS prevention program of the applicant.

e. Give details on the specific capacity building assistance needed. If previous technical assistance and/or capacity building services received, include records documenting pre/interim/final assessments for organizational and/or program capacity building.

f. Explain how strengthening the agency's organizational and programmatic infrastructures will result in increased HIV/AIDS prevention service delivery to women at high risk for or living with HIV/AIDS.

g. Provide a time line for implementing proposed improvements in both the organizational and program infrastructures.

h. Describe the most meaningful components of a mentoring partnership that will help the organization maximize the process of learning new skills and knowledge. Give details on aspects such as gender-focus, sensitivity, compassion, expertise, flexibility, dignity, honor, experience or willingness to “walk in my shoes,” to name a few.

i. Provide a draft Plan of Action that links the applicant's time line and areas for capacity building with achievement dates.

j. Describe the types of capacity building training taken within the past three years (name of training, description, length of training, need for training, results of training; pre/interim/final assessments for organizational and/or program capacity building).

k. Describe the evaluation plan for:

—The applicant's HIV/AIDS program services to women at high risk for or living with HIV/AIDS.

—Measuring effectiveness of mentoring services and corrective actions.

The Project Summary and Project Narrative must not exceed a total of 25 double-spaced pages, excluding the appendices. The original and each copy must be stapled and/or otherwise securely bound. The application should be organized in accordance with the format presented in the Program Guidelines. An outline for the minimum information to be included in the “Project Narrative” section is presented below. The content requirements for the Project Narrative portion of the application are divided into five sections and are described below within each Factor. Applicants must pay particular attention to structuring the narrative to respond clearly and fully to each review Factor and associated criteria.

Background (Understanding the Problem)

A. Provide an assessment of the prevention needs and service gaps for women at high risk for or living with HIV/AIDS in the applicant's local geographic area covering applicant's county and State (must cite all data using credible sources only).

B. Describe the HIV/AIDS prevention needs of women at high risk for or living with HIV/AIDS and service gaps the applicant proposes to address with capacity building assistance (must cite all data using credible sources only).

C. Describe the applicant's current capacity to provide HIV/AIDS prevention education and support services to women at high risk for or living with HIV/AIDS (including any documentation for 3+ years of service).

D. Give details on the specific capacity building assistance needed. Explain how strengthening the applicant's infrastructure AND program(s) will result in increased HIV/AIDS prevention service delivery to women at high risk for or living with HIV/AIDS.

Implementation Plan (Approach)

A. State goals for strengthening:

1. the organizational infrastructure of the applicant;

2. the HIV/AIDS prevention program services.

B. State quantifiable objectives for strengthening:

1. The organizational infrastructure of the applicant;

2. the HIV/AIDS prevention program services (must give the number of new women at risk for or living with HIV/AIDS to be served by the end of the program period).

C. Describe the most meaningful components of a mentoring partnership that will help the applicant maximize the process of learning new skills and information. Give details on aspects such as gender-focus, sensitivity, compassion, expertise, flexibility, dignity, honor, experience or willingness to “walk in my shoes,” to name a few.

Management Plan

A. Key project staff, their resumes, and staffing chart for budgeted staff.

B. To-be-hired staff and their qualifications.

C. Staff responsibilities.

D. Management oversight of staff roles and job performance.

E. Address maintenance of confidentiality, ethics in performance, and any mandatory in-service staff training.

Indicators of Success Plan

A. How will applicant determine success in meeting goals?

B. How will applicant determine success in meeting process objectives?

C. How will applicant determine success in meeting outcome objectives?

Appendices

A. Required Forms (Assurance of Compliance Form, etc.).

B. Key Staff Resumes.

C. Charts/Tables (target population demographics, gaps in services, etc.).

D. Other attachments.

Format and Limitations of Application: Applicants are required to submit an original ink-signed and dated application and 2 photocopies. All pages must be numbered clearly and sequentially beginning with the Project Summary. The application must be typed double-spaced on one side of plain 8½″ x 11″ white paper, using 12 point font, and containing 1″ margins all around.

Use of Funds: A majority of the funds from the award must be used to support staff and efforts aimed at implementing the program. Funds may be used for supplies (including screening, education, and outreach supplies); local travel to perform duties of the funded HIV/AIDS prevention program; and out-of-town travel (required training at one national and one regional HIV/AIDS conference). Funds may not be used for construction, building alterations, equipment, medical treatment, or renovations. All budget requests must be justified fully in terms of the proposed goals and objectives and include an itemized computational explanation/brakeout of how costs were determined.

Meetings: The OWH will sponsor a mandatory orientation meeting for grantees. The meeting will be held in the Washington metropolitan area. The budget should include a request for funds to pay for the travel, lodging, and meals. The meeting is usually scheduled within the first 8 weeks after awards are made.

The Federal Government (Project Officer) will:

(1) Conduct an orientation meeting for the grantees within the first 8 weeks of the funding period.

(2) Conduct one site evaluation visit.

(3) Regularly monitor progress via teleconference with all funded programs and on an as needed basis with individual funded programs.

(4) Contribute information throughout the program year on funding opportunities, trends in HIV/AIDS impacting women at risk and living with HIV/AIDS, and women-specific HIV/AIDS issues addressed in prevention, care, support, treatment, and research.

(5) Review all quarterly progress reports, annual report, and expense reports. Approves/disapproves invoices for payment. If disapproved, the applicant will receive information for specific areas to be addressed.

(6) Review time line and implementation plan to compare consistency with memorandum of agreement between the protégé and mentor (mentoring partnership).

(7) Work on an as-needed basis with the OWH independent evaluator and grantees.

3. Submission Dates and Times

All completed applications must be submitted to the Office of Grants Management, OPHS, DHHS at the above mailing address. In preparing the application, it is important to follow ALL instructions provided in the application kit.

Applications must be submitted on the forms supplied (OPHS-1, Revised 6/2001) and in the manner prescribed in the application kits provided by the OPHS. Applicants are required to submit an application signed by an individual authorized to act for the applicant agency or organization and to assume for the organization the obligations imposed by the terms and conditions of the grant award. The program narrative should not be longer than 25 double-spaced pages, not including appendices and required forms, using an easily readable, 12 point font. All pages, figures and tables should be numbered.

Submission Mechanisms

The OPHS provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by using the http://www.Grants.gov Web site portal is encouraged.

Electronic grant application submissions must be submitted no later than 5 p.m. Eastern Time on the deadline date specified in the DATES section of the announcement using one of the electronic submission mechanisms specified below. All required hard copy original signatures and mail-in items must be received by the OPHS Office of Grants Management no later than 5 p.m. Eastern Time on the next business day after the deadline date specified in the DATES section of the announcement.

Applications will not be considered valid until all electronic application components, hard copy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web site Portal

The http://www.Grants.gov Web site portal provides organizations with the ability to submit applications for OPHS grant opportunities. Organizations must successfully complete the necessary registration processes in order to submit an application. Information about this system is available on the http://www.Grants.gov Web site.

In addition to electronically submitted materials, applicants may be required to submit hard copy signatures for certain program related forms, or original materials as required by the announcement. It is imperative that the applicant review both the grant announcement, as well as the application guidance provided within the http://www.Grants.gov application package, to determine such requirements. Any required hard copy materials, or documents that require a signature, must be submitted separately via mail to the OPHS Office of Grants Management, and, if required, must contain the original signature of an individual authorized to act for the applicant agency and the obligations imposed by the terms and conditions of the grant award.

Electronic applications submitted via the http://www.Grants.gov Web site portal must contain all completed online forms required by the application kit, the Program Narrative, Budget Narrative and any appendices or exhibits. All required mail-in items must be received by the due date requirements specified above. Mail-in items may only include publications, resumes, or organizational documentation.

Upon completion of a successful electronic application submission via the http://www.Grants.gov Web site portal, the applicant will be provided with a confirmation page from http://www.Grants.gov indicating the date and time (Eastern Time) of the electronic application submission, as well as the http://www.Grants.gov Receipt Number. It is critical that the applicant print and retain this confirmation for their records, as well as a copy of the entire application package.

All applications submitted via the http://www.Grants.gov Web site portal will be validated by http://www.Grants.gov. Any applications deemed “Invalid” by the http://www.Grants.gov Web site portal will not be transferred to the OPHS eGrants system, and OPHS has no responsibility for any application that is not validated and transferred to OPHS from the http://www.Grants.gov Web site portal. Grants.gov will notify the applicant regarding the application validation status. Once the application is successfully validated by the http://www.Grant.gov Web site portal, applicants should immediately mail all required hard copy materials to the OPHS Office of Grants Management to be received by the deadlines specified above. It is critical that the applicant clearly identify the organization name and http://www.Grants.gov Application Receipt Number on all hard copy materials.

Once the application is validated by http://www.Grants.gov, it will be electronically transferred to the OPHS eGrants system for processing. Upon receipt of both the electronic application from the http://www.Grants.gov Web site portal, and the required hard copy mail-in items, applicants will receive notification via mail from the OPHS Office of Grants Management confirming the receipt of the application submitted using the http://www.Grants.gov Web site portal.

Applicants should contact http://www.Grants.gov regarding any questions or concerns pertaining to the electronic application process.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grants Management on or before 5 p.m. Eastern Time on the deadline date specified in the DATES section of the announcement. The application deadline date requirements specified in this announcement supersedes the instructions in the OPHS-1. Applications that do not meet the deadline will be returned to the applicant unread.

Applications will be screened upon receipt. Those that are judged to be incomplete or arrive after the deadline will be returned without review or comment. Applications that exceed the requested amount of $50,000 for a 12-month budget period may also be returned without review or comment. Applicants that are judged to be in compliance will be notified by the OPHS Office of Grants Management. Accepted applications will be reviewed for technical merit in accordance with DHHS policies.

4. Intergovernmental Review

This program is subject to the Public Health Systems Reporting Requirements. Under these requirements, a community-based non-governmental applicant must prepare and submit a Public Health System Impact Statement (PHSIS). Applicants shall submit a copy of the application face page (SF-424) and a one-page summary of the project, called the Public Health System Impact Statement. The PHSIS is intended to provide information to State and local health officials to keep them apprised on proposed health services grant applications submitted by community-based, non-governmental organizations within their jurisdictions.

Community-based, non-governmental applicants are required to submit, no later than the Federal due date for receipt of the application, the following information to the head of the appropriate State and local health agencies in the area(s) to be impacted: (a) A copy of the face page of the application (SF 242), (b) a summary of the project (PHSIS), not to exceed one page, which provides: (1) A description of the population to be served, (2) a summary of the services to be provided, and (3) a description of the coordination planned with the appropriate State or local health agencies. Copies of the letters forwarding the PHSIS to these authorities must be contained in the application materials submitted to the OWH.

This program is also subject to the requirements of Executive order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following Web site: http://www.whitehouse.gov/omb/grants/spoc.html. The due date for State process recommendations is 60 days after the application deadline. The OWH does not guarantee that it will accommodate or explain its responses to State process recommendations received after that date. (See “Intergovernmental Review of Federal Programs,” Executive Order 12372, and 45 CFR Part 100 for a description of the review process and requirements.)

5. Funding Restrictions

Funds may not be used for construction, building alterations, equipment purchase, medical treatment, renovations, or to purchase food. Pre-award costs are not allowable.

6. Other Submission Requirements

Beginning October 1, 2003, all applicants are required to obtain a Data Universal Numbering System (DUNS) number as preparation for doing business electronically with the Federal government. The DUNS number must be obtained prior to applying for OWH funds. The DUNS number is a nine-character identification code provided by the commercial company Dun & Bradstreet, and serves as a unique identifier of business entities. There is no charge for requesting a DUNS number, and you may register and obtain a DUNS number by either of the following methods:

Telephone: 1-866-705-5711.

Web site: https://www.dnb.com/product/eupdate/requestOptions.html.

Be sure to click on the link that reads, “DUNS Number Only” at the right hand, bottom corner of the screen to access the free registration page. Please note that registration via the Web site may take up to 30 business days to complete.

V. Application Review Information

1. Criteria: The technical review of applications will consider the following factors:

Factor 1: Background/Understanding of the Problem (25%)

This section must discuss:

1. The applicant's background and record of success in addressing the needs of women at high risk for or living with HIV/AIDS in urban and/or rural areas; and

2. The HIV/AIDS prevention needs for women at high risk for or living with HIV/AIDS and service gaps in the agency's local service area.

Factor 2: Implementation/Approach (25%)

This section must discuss:

1. The applicant's current capacity to provide HIV/AIDS prevention education and support services to women at high risk for or living with HIV/AIDS in urban or rural areas;

2. The applicant's specific organizational AND program capacity building assistance needed based on the following:

a. Core Capacity Building Areas: Organization Infrastructure Subset Areas:

—Fiscal management (e.g., accounting and bookkeeping systems; Federal and State tax laws and regulations; systems operations; developing policies and procedures; equipment, computers, software; source of funding tracking systems).

—Human resources (e.g., personnel hiring policies and procedures; position descriptions; benefit packages).

—Organizational governance (e.g., board development; strategic plan; board membership recruitment, selection, retention; board roles and responsibilities).

—Data management (e.g., assessments, reporting requirements; designing and display; quantitative and qualitative data).

—Technology development (e.g., software).

b. Core Capacity Building Area: Program Infrastructure Subset Areas:

—Gender-focused programmatic development.

—Implementation.

—Reporting.

—Monitoring.

—Evaluation.

3. The application's description of how strengthening the organizational AND program infrastructure will result in increased HIV/AIDS prevention service delivery to women at high risk for or living with HIV/AIDS;

4. The applicant's description of key components of a mentoring partnership necessary for maximum learning and skills-building experience.

Factor 3: Management Plan (25%)

The applicant's proposal should contain:

1. Proposed staff and/or requirements for new staff adequately described in résumés (appears in Appendix);

2. Proposed staff level of effort; and

3. Detailed position descriptions (appears in Appendix).

Factor 4: Indicators of Success (25%)

The applicants proposal contains:

1. Clear statement of program goal(s).

2. Comprehensive process objectives.

3. Comprehensive outcome objectives.

2. Review and Selection Process: Funding decision will be made by the OWH, and will take into consideration the recommendations and ratings of the review panel, program needs, geographic location, stated preferences, and the recommendations of DHHS Regional Women's Health Coordinators (RWHC).

Applications will be evaluated by a technical review panel composed of experts in the fields of minority women's health issues, particularly HIV/AIDS prevention; community-based, faith-based, and women's service organization's delivery of HIV/AIDS prevention and support services; and Federal and State government public health systems. Applicants are requested to pay close attention to the specific program guidelines and general instructions in the application kit that may be obtained from the Grants Management Office, Office of Public Health and Science, DHHS, 1101 Wootten Parkway, Suite 550, Rockville, MD 20852, and to the definitions provided in this notice.

VI. Award Administration Information

1. Award Notices: Cooperative agreement award applicants will receive a Notice of Grant Award signed by the Grants Management Office. This is the authorizing document and it will be sent electronically and followed up with a mailed copy.

2. Administrative and National Policy Requirements: The regulations set out at 45 CFR parts 74 and 92 are the Department of Health and Human Services (DHHS) rules and requirements that govern the administration of grants. Part 74 is applicable to all recipients except those covered by part 92, which governs awards to State and local governments. Applicants funded under this announcement must be aware of and comply with these regulations. The CFR volume that includes parts 74 and 92 may be downloaded from http://www.access.gpo.gov/nara/cfr/waisidx 03/45cfrv1_03.html.

The DHHS Appropriations Act requires that, when issuing statements, press releases, request for proposals, bid solicitations, and other documents describing projects or programs funded in whole or in part with Federal money, all grantees shall clearly state the percentage and dollar amount of the total cost of the program or project which will be financed with Federal money and the percentage and dollar amount of the total costs of the project or program that will be financed by non-governmental sources.

3. Reporting: In addition to those listed above, the applicant will submit two progress reports and an annual report detailing the entire funding year of mentoring partnership program activities. OWH will provide the Progress Report Form and Annual Report Form during the orientation meeting. The purpose of the progress reports is to provide accurate and timely program information to program managers and to respond to Congressional, Departmental, and public requests for information about the program. The applicant will also submit a financial status report (in accordance with provisions of the general regulation which apply under “Monitoring and Reporting Program Performance,” 45 CFR parts 74 and 92).

An original and two copies of the progress report(s) must be submitted by January 12, 2007, May 11, 2007, and August 31, 2007. The last quarterly report will serve as the annual progress report and must describe all project activities for the entire year. A Financial Status Report (FSR) SF-269 is due 90 days after the close of each 12-month budget period.

VII. Agency Contacts

1. For budget and business aspects of the application, please contact: Grants Management Officer, Office of Public Health and Science, DHHS, 1101 Wootten Parkway, Suite 550, Rockville, MD 20857. Telephone: (240) 453-8822.

2. Questions regarding programmatic information and/or requests for technical assistance in the preparation of the grant application should be directed in writing to: Ms. Joanna Short, M.Div., Public Health Advisor, Office on Women's Health, Office of Public Health and Science, DHHS, 200 Independence Avenue, SW., Room 733E, Washington, DC 20201. Telephone: (202) 260-8420. E-mail: Jshort@osophe.dhhs.gov.

VIII. Other Information

A. Protection of Human Subjects Regulations

The applicant must comply with the DHHS Protection of Human Subjects regulations (which require obtaining Institutional Review Board approval), set out as 45 CFR Part 46, if applicable. General information about Human Subjects regulations can be obtained through the Office for Human Research Protections (OHRP) at http://www.hhs.gov/ohrp, or ohrp@osophs.dhhs.gov, or toll free at (866) 447-4777.

B. Objectives of Health People 2010

Emphasis will be placed on aligning OWH activities and programs with Healthy People 2010: Goal 2 to eliminate health disparities. More information on the Healthy People 2010 objectives may be found on the Healthy People 2010 Web site: http://www.health.gov/healthypeople.

C. Definitions

Community-based organization: Public and private, non-profit organizations that are representative of communities or significant segments of communities.

Culturally competent: Information and services provided at the educational level and in the language and cultural context that are most appropriate for the individuals for whom the information and services are intended. Additional information on cultural competency is available at the following Web site: http://www.aoa.dhhs.gov/May 2001/factsheets/Cultural-Competency.html.

Cultural perspective: Recognizes that culture, language, and country of origin have an important and significant impact on the health perceptions and health behaviors that produce a variety of health outcomes (e.g., influx of immigrant populations in the rural south, such as Africans, Hispanics, and Native/American Indians).

Evidence-Based: DHHS recognizes HIV/AIDS prevention education approaches for reaching minority populations, namely education/training, outreach (street, media), and care services. Additional information on evidence-based HIV/AIDS prevention programs is available at the following Web site: http://www.cdc.gov/hiv/pubs/hivcompendium/organize.htm.

Gender-focused: An approach which considers the social and environmental context in which women live and therefore structures information, activities, program priorities and service delivery systems to compliment those factors.

Healthy People 2010: A set of national health objectives that outlines the prevention agenda for the Nation. Healthy People 2010 identify the most significant preventable threats to health and establishes national goals for the next ten years. Individuals, groups, and organizations are encouraged to integrate Healthy People 2010 into current programs, special events, publications, and meetings. Businesses can use the framework, for example to guide worksite health promotion activities as well as community-based initiatives. Schools, colleges, and civic and faith-based organizations can undertake activities to further the health of all members of their community. Health care providers can encourage their patients to pursue healthier lifestyles and to participate in community-based programs. By selecting from among the national objectives, individuals and organizations can build an agenda for community health improvement and can monitor results over time. More information on the Healthy People 2010 objectives may be found on the Healthy People 2010 Web site: http://www.health.gov/healthypeople.

Prevention education: Accurate information to increase knowledge of methods and behaviors to keep individuals from becoming infected with HIV.

Dated: May 16, 2006.
Wanda K. Jones,
Deputy Assistant Secretary for Health (Women's Health), Office of Public Health and Science.

[FR Doc. E6-7848 Filed 5-22-06; 8:45 am]

BILLING CODE 4150-33-P